DEPARTMENT OF THE INTERIOR

Bureau of Ocean Energy Management

[Docket No. BOEM-2020-0018]

Outer Continental Shelf, Alaska Region, Cook Inlet Planning Area, Oil and Gas Lease Sale 258

AGENCY: Bureau of Ocean Energy Management, Interior.

ACTION: Notice of intent to prepare a supplemental environmental impact statement.

SUMMARY: The Bureau of Ocean Energy Management (BOEM) announces its intent to prepare a supplemental environmental impact statement (EIS) for Outer Continental Shelf (OCS) Oil and Gas Lease Sale 258 in the Cook Inlet Planning Area, Alaska. BOEM takes this action consistent with the regulations and guidance implementing the National Environmental Policy Act (NEPA) of 1969, as amended. This supplemental EIS will provide new analysis in response to a remand by the United States District Court for the District of Alaska (Court).

FOR FURTHER INFORMATION CONTACT: Mr. Casey Rowe, Supervisor, Environmental Analysis Section, Bureau of Ocean Energy Management, Alaska OCS Region, 3801 Centerpoint Drive, Suite 500, Anchorage, Alaska 99503-5820, telephone (907) 312-3788, email casey.rowe@boem.gov.

SUPPLEMENTARY INFORMATION: BOEM was required to hold Cook Inlet Lease Sale 258 (Lease Sale 258) by the end of December 2022, as directed in the Inflation Reduction Act of 2022 (Pub. L. 117-169, enacted Aug. 16, 2022). On October 28, 2022, BOEM published the notice of availability regarding the Cook Inlet Lease Sale 258 final EIS in the Federal Register (87 FR 65247). Subsequently, on November 22, 2022, the Assistant Secretary for Land and Minerals Management signed the record of decision (ROD). BOEM published a notice of availability in the Federal Register (87 FR 73322) on November 29, 2022. On December 30, 2022, BOEM held Lease Sale 258, receiving one bid on one block, resulting in the issuance of one lease.

On December 21, 2022, plaintiffs Cook Inletkeeper, et al., filed a lawsuit under the Administrative Procedure Act alleging several violations of NEPA. On July 16, 2024, the Court ruled partially in favor of the plaintiffs and remanded without vacatur the Lease Sale 258 final EIS and ROD to BOEM to prepare a supplemental EIS to address three deficiencies identified by the Court. The three deficiencies identified by the Court are summarized as follows: (1) failure to consider a reasonable range of alternatives, specifically with respect to alternatives that would offer for lease a reduced number of blocks and meaningfully reduce overall impacts; (2) failure to take the requisite “hard look” at the impact of vessel noise from Lease Sale 258 on Cook Inlet beluga whales; and (3) failure to consider the cumulative impacts on Cook Inlet beluga whales separately from other marine mammals.

As a result of the Court's decision and order, BOEM announces its intent to prepare a supplemental EIS for Lease Sale 258 in the Cook Inlet Planning Area, Alaska. The supplemental EIS will provide additional analyses to address the deficiencies identified by the Court. At the completion of the supplemental EIS process, the Secretary of the Interior or his designee will issue a modified ROD. Implementation of the Secretary's decision identified in a modified ROD would require the Secretary to either affirm, modify, or vacate the previously awarded lease; it would not result in a new lease sale.

Scoping: Under Department of the Interior regulations implementing NEPA (43 CFR 46.415) and existing practices and procedures, scoping is not required for a supplemental EIS. The scope of the final EIS for Lease Sale 258 and the remand by the Court establish the scope for this supplemental EIS.

When complete, BOEM will publish a notice of availability regarding the draft supplemental EIS for public review and comment as follows: (1) in the Federal Register, which will also include a notice of availability in the U.S. Environmental Protection Agency weekly notice of EIS receipts; (2) on the BOEM Alaska OCS Region homepage; and (3) in the local media. Public hearings will be held following release of the draft supplemental EIS. Dates and locations for the public hearings will be determined and published at a later date.

Authority: This NOI is published pursuant to the Department of the Interior regulations (43 CFR 46.415) implementing the procedural provisions of the National Environmental Policy Act of 1969, as amended (42 U.S.C. 4321 et seq.).

Walter D. Cruickshank,
Acting Director, Bureau of Ocean Energy Management.

[FR Doc. 2025-05797 Filed 4-3-25; 8:45 am]

BILLING CODE 4340-98-P